DEPARTMENT OF COMMERCE

International Trade Administration

[A-357-812]

Honey From Argentina: Initiation of New Shipper Antidumping Duty Administrative Review

AGENCY: Import Administration, International Trade Administration, Department of Commerce.

EFFECTIVE DATE: February 6, 2003.

FOR FURTHER INFORMATION CONTACT: Phyllis Hall or Donna Kinsella at (202) 482-1398 or (202) 482-0194, respectively; Antidumping and Countervailing Duty Enforcement Group III, Import Administration, International Trade Administration, U.S. Department of Commerce, 14th Street and Constitution Avenue, NW., Washington, DC 20230.

The Applicable Statute

Unless otherwise indicated, all citations to the statute are references to the Tariff Act of 1930, as amended. In addition, unless otherwise indicated, all citations to the Department's regulations are references to the provisions codified at 19 CFR part 351 (2002).

Background

The Department received a timely request from Nutrin, S.A., the exporter and Nutrin Corporation, its affiliated U.S. company (collectively, Nutrin) in accordance with 19 CFR 351.214(c), for a new shipper review of the antidumping duty order on honey from Argentina, which has a December annual anniversary month. See Notice of Antidumping Duty Order; Honey from Argentina, 66 FR 63672 (December 10, 2001). As required by 19 CFR 351.214(b)(2)(i), (ii) and (iii)(A), the company identified above and its supplier of subject merchandise have certified that they did not export honey to the United States during the period of investigation (POI), and that neither have been affiliated with any exporter or producer which did export honey during the POI. Pursuant to the Department's regulations at 19 CFR 351.214(b)(2)(iv)(A), Nutrin submitted documentation establishing the date on which it first shipped the subject merchandise to the United States, the volume of that first shipment, and the date of the first sale to an unaffiliated customer in the United States.

In accordance with section 751(a)(2)(B) of the Act, as amended, and 19 CFR 351.214(d)(i), and based on information on the record, we are initiating a new shipper review for Nutrin S.A.

Scope

The merchandise under review is honey from Argentina. For purposes of this review, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under review is currently classifiable under subheadings 0409.00.00, 1702.90.90, and 2106.90.99 of the Harmonized Tariff Schedule of the United States (HTSUS). Although the HTSUS subheadings are provided for convenience and U.S. Customs Service (Customs) purposes, the Department's written description of the merchandise under this order is dispositive.

Initiation of Review

In accordance with section 751(a)(2)(B)(ii) of the Act and 19 CFR 351.214(d)(1), we are initiating a new shipper review of the antidumping duty order on honey from Argentina. Therefore, we intend to issue the preliminary results of this review not later than 180 days after the date on which the review is initiated. We intend to issue the final results of this review within 90 days after the date on which the preliminary results were issued.

Pursuant to 19 CFR 351.214(g)(1)(ii)(A) of the Department's regulations, the period of review (POR) for a new shipper review initiated in the month immediately following the annual anniversary month, the review will normally cover as appropriate entries, exports or sales during the period from the date of suspension of liquidation under this part to the end of the month immediately preceding the first anniversary month. Therefore, the POR for this new shipper review is:

Antidumping duty proceeding | Period to be reviewed
Nutrin, S.A. | 05/11/01—11/30/02

We will instruct the Customs Service to allow, at the option of the importer, the posting, until the completion of the review, of a single entry bond or security in lieu of a cash deposit for each entry of the merchandise exported by the above-listed company. This action is in accordance with 19 CFR 351.214(e). Interested parties that need access to proprietary information in this new shipper review should submit applications for disclosure under administrative protective orders in accordance with 19 CFR 351.305 and 351.306. This initiation and notice are in accordance with section 751(a) of the Act (19 U.S.C. 1675(a)) and 19 CFR 351.214(d).

Dated: January 31, 2003.
Joseph A. Spetrini,
Deputy Assistant Secretary for Import Administration, Group III.

[FR Doc. 03-2955 Filed 2-5-03; 8:45 am]

BILLING CODE 3510-DS-P